DEPARTMENT OF AGRICULTURE

Natural Resources Conservation Service

Lower Payette River Ditch Diversion, Replacement; Payette County, ID

AGENCY: Natural Resources Conservation Service, USDA.

ACTION: Notice of a finding of no significant impact.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for a federally assisted proposed project by the Lower Payette Ditch Company, Payette County, Idaho.

FOR FURTHER INFORMATION CONTACT: Richard Sims, State Conservationist, Natural Resources Conservation Service, 9173 W. Barnes Dr., Suite C, Boise, Idaho, 83709-1574, telephone: 208-378-5700.

SUPPLEMENTARY INFORMATION: The Plan/Environmental Assessment of this federally assisted proposed action indicates that the proposed action will not cause significant local, regional, or national impacts on the environment. As a result of these findings, Richard Sims, State Conservationist, has determined that the preparation and review of an environmental impact statement is not needed for this project.

The objective of the Lower Payette Ditch Company proposed action is to provide efficient water delivery, operator safety and low maintenance, reliability, and adequate fish and recreational boater passage, while not adversely affecting the environment. The proposed project would replace the existing deteriorating diversion structure with an automated inflatable diversion dam.

The Notice of Finding of No Significant Impact (FONSI) has been forwarded to the Environmental Protection Agency. The basic data developed during the plan/environmental assessment is on file and may be reviewed by contacting Mr. Richard Sims. The FONSI has been sent to various Federal, State, and local agencies and interested parties. A limited number of copies of the FONSI are available to fill single copy requests at the address stated on the previous page.

No administrative action on the proposal will be initiated until 30 days after the date of publication in the Federal Register.

Dated: March 18, 2005.
Richard Sims,
State Conservationist.

[FR Doc. 05-6096 Filed 3-28-05; 8:45 am]

BILLING CODE 3410-16-P